DEPARTMENT OF HOMELAND SECURITY

U.S. Citizenship and Immigration Services

[CIS No. 2346-05]

RIN 1615-ZA22

Direct Mail Program for Submitting Application To Replace Permanent Resident Card, Form I-90

AGENCY: U.S. Citizenship and Immigration Services, Department of Homeland Security.

ACTION: Notice.

SUMMARY: U.S. Citizenship and Immigration Services is expanding its Direct Mail Program to provide that aliens seeking to renew or replace their Permanent Resident Card using the newly revised Form I-90, Application to Replace Permanent Resident Card, must file their application at a designated lock-box facility for initial processing, instead of at their local U.S. Citizenship and Immigration Services office, Service Center, or Application Support Center. The Direct Mail Program allows U.S. Citizenship and Immigration Services to more efficiently process applications by eliminating duplicative work, maximizing staff productivity, and introducing better information management tools.

DATES: This Notice is effective May 31, 2005.

FOR FURTHER INFORMATION CONTACT: Rebecca Watson, Lockbox Project Manager, U.S. Citizenship and Immigration Services, Department of Homeland Security, 20 Massachusetts Avenue, NW., Room 1000, Washington, DC 20529, Telephone (202) 272-1001.

SUPPLEMENTARY INFORMATION:

Background

What is the Direct Mail program?

Under the Direct Mail program, applicants for certain immigration benefits mail the designated application or petition directly to a U.S. Citizenship and Immigration Services (USCIS) processing center instead of submitting it to their local USCIS office. The purpose and strategy of the Direct Mail program have been discussed in detail in previous rulemakings and Notices (see 59 FR 33903, 59 FR 33985, 60 FR 22408, 61 FR 2266, 61 FR 56060, 62 FR 16607, 63 FR 891, 63 FR 892, 63 FR 13434, 63 FR 13878, 63 FR 16828, 63 FR 50584, 63 FR8688, 63 FR 8689, 64 FR 67323, 69 FR 3380, and 69 FR 4210).

What is the purpose of the Form I-90?

Form I-90 is used to apply for a replacement or renewal of Form I-551, Permanent Resident Card. The specific requirements and procedures to obtain a Permanent Resident Card can be found at 8 CFR 264.5. Approximately one million of these forms are filed annually.

Why is a Permanent Resident Card necessary?

Section 264(d) of the Immigration and Nationality Act (INA) provides that, every alien in the United States who has been registered and fingerprinted “shall be issued a certificate of alien registration or an alien registration receipt card in such form and manner and at such time as shall be prescribed under regulations * * *.” Section 264(e) of the INA also provides that “[e]very alien, eighteen years of age and over, shall at all times carry with him and have in his personal possession any certificate of alien registration or alien registration receipt card issued to him * * *. Any alien who fails to comply with [these] provisions shall be guilty of a misdemeanor * * *.” The Permanent Resident Card provides documentary evidence that the bearer has been granted lawful permanent residence in the United States and has been registered.

The specific requirements and procedures for applying to replace a permanent resident card (including renewals of expiring permanent resident cards) via submission of a Form I-90 with the required initial evidence are set forth at 8 CFR 264.5.

Explanation of Changes

Does this Notice make any changes relating to an alien's eligibility for issuance of a replacement permanent resident card?

No. This Notice only effects a change in the filing location for these applications.

Will applicants for replacement permanent resident cards be required to make a personal appearance to have their biometrics captured?

Yes, in accordance with the instructions contained on the newly revised Form I-90, applicants will be notified how to make an appointment to appear for biometrics processing. Due to new technological capabilities, USCIS is now able to store captured biometrics data to be utilized in the future. This enhancement will assist applicants by reducing the number of future visits needed to the local Application Support Center throughout the entire immigration process. The applicants will now appear and have their photograph, fingerprints, and signature captured in this single visit. Due to the fact that USCIS is now taking photographs of applicants, there is no longer the requirement to submit photographs with the Form I-90. The biometrics fee covering this service is $70.

Which applicants for replacement or renewal of Permanent Resident Cards are affected by this Notice?

This Notice affects those aliens who are required to file for a replacement Permanent Resident Card pursuant to 8 CFR 264.5(b), for example, when:

(1) The previous card has been lost, stolen, or destroyed;

(2) The existing 10-year card is expiring within 6 months;

(3) The existing card has been mutilated;

(4) The bearer's name or other biographic information has been legally changed since the issuance of the existing card;

(5) The applicant is taking up actual residence in the United States after having been a commuter, or is a permanent resident taking up commuter status;

(6) The applicant has automatically converted to permanent resident status;

(7) The previous card issued was never received;

(8) The bearer of the card reaches the age of 14 years (unless the existing card will expire prior to the bearer's 16th birthday); or

(9) The existing card contains incorrect data on account of USCIS or former INS error.

To what address should aliens filing Form I-90 send their application?

Effective May 31, 2005, all applicants for replacement permanent resident cards (including applicants seeking to renew expiring 10-year Permanent Resident Cards) should submit their Form I-90 directly to the following address:

For United States Postal Service (USPS) deliveries: U.S. Citizenship and Immigration Services, P.O. Box 54870, Los Angeles, CA 90054-0870.

For non-United States Postal Service (USPS) deliveries (e.g., Federal Express, UPS, or DHL): U.S. Citizenship and Immigration Services, Attention: I-90, 16420 Valley View Avenue, La Mirada, CA 90638.

Applicants should NOT submit the required initial evidence (i.e. your prior card or other evidence of identity) or any supporting documentation with the Form I-90. All required initial evidence and any supporting documentation must be submitted at the time of the applicant's in-person appearance at the local USCIS Application Support Center.

Which version of the Form I-90 will USCIS accept?

As of May 31, 2005, USCIS will accept Form I-90 (edition date 5-06-05, OMB 1615-0082). Any prior versions of the Form I-90, submitted after May 31, 2005, without the required biometric fee, will be rejected and returned to the applicant with accompanying fees for resubmission with the proper version of the form.

What will happen to Forms I-90 covered by this Notice that are filed at other USCIS locations?

USCIS will have a 45-day transition period, beginning from May 31, 2005, through July 15, 2005, during which it will automatically forward to the Los Angeles/La Mirada Lockbox address any Form I-90s filed at a location other than the Lockbox (i.e., a local USCIS district office, Service Center or Application Support Center). Applications forwarded from other USCIS offices will be considered properly filed when receipted at the Lockbox. After the 45-day transition period, any Form I-90 received at a location other than the Lockbox address will be returned with an explanation directing the applicant to mail the application directly to the Los Angeles/La Mirada Lockbox address for processing.

How will your check be processed once it reaches the Lockbox facility?

If you send us a check, it will be converted into an electronic funds transfer (EFT). This means we (USCIS and the Lockbox facility) will copy your check and use the account information on it to electronically debit your account for the amount of the check. The debit from your account will usually occur within 24 hours, and will be shown on your regular account statement.

You will not receive your original check back. We will destroy your original check, but will keep the copy of it. If the EFT cannot be processed for technical reasons, you authorize us to process the copy in place of your original check. If the EFT cannot be completed because of insufficient funds, we may try to make the transfer up to two times.

Dated: May 24, 2005.
Eduardo Aguirre,
Director, U.S. Citizenship and Immigration Services.

[FR Doc. 05-10708 Filed 5-25-05; 9:56 am]

BILLING CODE 4410-10-P